NATIONAL AERONAUTICS AND SPACE ADMINISTRATION

[14-122]

Notice of Centennial Challenges Cube Quest Challenge

AGENCY: National Aeronautics and Space Administration (NASA).

SUMMARY: This notice is issued in accordance with 51 U.S.C. 20144(c).

The Cube Quest (CQ) Challenge is scheduled and teams that wish to compete may now register. Centennial Challenges is a program of prize competitions to stimulate innovation in technologies of interest and value to NASA and the nation. The Cube Quest Challenge is a prize competition designed to encourage development of new technologies or application of existing technologies in unique ways to advance cubsat communication and propulsion systems. NASA is providing the prize purse.

DATES: Challenge registration opens December 2, 2014 and the competition will conclude one year after the NASA Provided launch opportunity is launched for the challenge.

ADDRESSES: The Cube Quest Challenge will be conducted in the cis-lunar and trans-lunar locations in space.

FOR FURTHER INFORMATION CONTACT: To register for or get additional information regarding the Cube Quest Challenge, please visit: http://www.nasa.gov/cubequestchallenge. For general information on the NASA Centennial Challenges Program please visit: http://www.nasa.gov/challenges. General questions and comments regarding the program should be addressed to Sam Ortega, Centennial Challenges Program, NASA Marshall Space Flight Center, Huntsville, AL 35812. Email address: hq-stmd-centennialchallenges@mail.nasa.gov.

SUPPLEMENTARY INFORMATION:

Summary

Competitors will design, build, and launch a cubesat to a lunar distance and or beyond. Prizes will be awarded for; putting a cubesat into a stable lunar orbit, communicating the largest amount of data from the lunar distance in a 30 minute time frame and in a 28 day time frame, communicating the largest amount of data from 4,000,000 kilometers from Earth in a 30 minute time frame and in a 28 day time frame, for being the last cube sat communicating and for communicating from the furthest distance from Earth.

I. Prize Amounts

The total Cube Quest prize purse is $5,00,000 (five million U.S. dollars). Prizes will be offered for entries that meet specific requirements detailed in the Rules.

II. Eligibility

To be eligible to win a prize, competitors must:

(1) Register and comply with all requirements in the rules,

(2) In the case of a private entity, shall be incorporated in and maintain a primary place of business in the United States, and in the case of an individual, whether participating singly or in a group, shall be a citizen or permanent resident of the United States,

(3) Not be a Federal entity or Federal employee acting within the scope of their employment.

III. Rules

The complete rules for the Cube Quest Challenge can be found at: http://www.nasa.gov/cubequest.

Cheryl Parker,
NASA Federal Register Liaison Officer.

[FR Doc. 2014-27714 Filed 11-21-14; 8:45 am]

BILLING CODE 7510-13-P